DEPARTMENT OF DEFENSE

48 CFR Parts 208 and 210

[DFARS Case 2002-D003]

Defense Federal Acquisition Regulation Supplement; Competition Requirements for Purchases From a Required Source

AGENCY: Department of Defense (DoD).

ACTION: Notice of public meeting.

SUMMARY: The Director of Defense Procurement is sponsoring a public meeting to discuss the interim rule published at 67 FR 20687 on April 26, 2002. The rule amended the Defense Federal Acquisition Regulation Supplement (DFARS) to implement Section 811 of the Fiscal Year 2002 National Defense Authorization Act. Section 811 requires DoD to conduct market research before purchasing a product listed in the Federal Prison Industries (FPI) catalog, to determine whether the FPI product is comparable in price, quality, and time of delivery to products available from the private sector. A listing of possible discussion topics can be found on the Defense Procurement Web site at http://www.acq.osd.mil/dp.

DATES: The meeting will be held on June 3, 2002, from 1 p.m. to 4 p.m., local time.

ADDRESSES: The meeting will be held in Room C-43, Crystal Mall 4, 1931 Jefferson Davis Highway, Arlington, VA 22202.

FOR FURTHER INFORMATION CONTACT: Susan L. Schneider, Defense Acquisition Regulations Directorate, at (703) 602-0326 or susan.schneider@osd.mil.

Michele P. Peterson,
Executive Editor, Defense Acquisition Regulations Council.

[FR Doc. 02-11899 Filed 5-10-02; 8:45 am]

BILLING CODE 5001-08-U